DEPARTMENT OF HEALTH AND HUMAN SERVICES

Health Resources and Services Administration

Agency Information Collection Activities: Proposed Collection: Comment Request

In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: National Health Service Corps Alumni Initiative—New

The Health Resources and Services Administration's (HRSA) Bureau of Clinician Recruitment and Service (Bureau) administers the National Health Service Corps (NHSC) and its Scholarship and Loan Repayment Programs authorized under sections 331-338H of the Public Health Service Act (42 U.S.C. 254d-254q). Under these NHSC programs, health professionals agree to provide primary health services in health professional shortage areas. Health professionals who have completed NHSC service are considered to be NHSC Alumni.

The Bureau is proposing to develop a database of NHSC Alumni to establish an active network of Alumni to serve as a resource for the recruitment, counseling, and/or mentoring of future and current primary health care providers to practice in underserved communities. The database would maintain contact information for NHSC Alumni, allow NHSC Alumni to better communicate with each other, and enable the Bureau to communicate with NHSC Alumni (e.g., send updates, plan meetings, and provide monthly newsletters).

Basic contact information would be collected from the NHSC Alumni, such as, name, state (of residence and/or employment), contact telephone number, contact e-mail address, discipline, specialty, uniformed services rank and status (active duty or retired), and NHSC service category (Scholar, Loan Repayor, or Volunteer). The data would be easily collected and accessed through a secure Web portal and allow for the safe collection and storage of this information.

The estimated annual burden is as follows:

Instrument | Number of respondents | Responses per respondent | Total responses | Hours per response | Total burden hours
Alumni Database | 5,000 | 1 | 5,000 | .20 | 1,000

E-mail comments to paperwork@hrsa.gov or mail the HRSA Reports Clearance Officer, Room 10-33, Parklawn Building, 5600 Fishers Lane, Rockville, MD 20857. Written comments should be received within 60 days of this notice.

Dated: March 31, 2010.
Sahira Rafiullah,
Director, Division of Policy and Information Coordination.

[FR Doc. 2010-7927 Filed 4-7-10; 8:45 am]

BILLING CODE 4165-15-P